DEPARTMENT OF COMMERCE

Foreign-Trade Zones Board

[Order No. 1930]

Reorganization of Foreign-Trade Zone 185 Under Alternative Site Framework; Culpeper County, VA

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the County of Culpeper, grantee of Foreign-Trade Zone 185, submitted an application to the Board (FTZ Docket B-78-2012, docketed 11-01-2012) for authority to reorganize under the ASF with a service area comprised of certain counties in Virginia (which the application indicated were adjacent to the Front Royal Customs and Border Protection port of entry) and FTZ 185's existing Sites 1, 2, and 3 would be categorized as magnet sites;

Whereas, notice inviting public comment was given in the Federal Register (77 FR 66796, 11/07/12) and the application has been processed pursuant to the FTZ Act and the Board's regulations; and,

Whereas, the Board adopts the findings and recommendation of the examiner's report (including addendum), and finds that the requirements of the FTZ Act and the Board's regulations are satisfied if the service area is comprised of Culpeper, Greene, Madison, Orange, Page, Rappahannock, Shenandoah and Warren Counties;

Now, Therefore, the Board hereby orders:

The application to reorganize FTZ 185 under the ASF is approved with a service area comprised of Culpeper, Greene, Madison, Orange, Page, Rappahannock, Shenandoah and Warren Counties, subject to the FTZ Act and the Board's regulations, including Section 400.13, to the Board's standard 2,000-acre activation limit for the zone, and to a five-year ASF sunset provision for magnet sites that would terminate authority for Sites 1 and 3 if not activated by January 31, 2019.

Signed at Washington, DC, this 7th day of February 2014.
Paul Piquado,
Assistant Secretary of Commerce for Enforcement and Compliance, Alternate Chairman, Foreign-Trade Zones Board.
ATTEST:
Andrew McGilvray,
Executive Secretary.

[FR Doc. 2014-03709 Filed 2-20-14; 8:45 am]

BILLING CODE 3510-DS-P